DEPARTMENT OF TRANSPORTATION

National Highway Traffic Safety Administration

[Docket No. NHTSA-2014-0034; Notice 2]

Maserati S.p.A and Maserati North America, Inc., Grant of Petition for Decision of Inconsequential Noncompliance

AGENCY: National Highway Traffic Safety Administration (NHTSA), Department of Transportation (DOT).

ACTION: Grant of petition.

SUMMARY: Maserati S.p.A and Maserati North America, Inc. (collectively “MNA”) have determined that certain model year (MY) 2011-2014 MNA passenger cars do not fully comply with paragraph S4.4(c)(2), of Federal Motor Vehicle Safety Standard (FMVSS) No. 138, Tire Pressure Monitoring Systems. MNA has filed a report dated March 3, 2014, pursuant to 49 CFR part 573, Defect and Noncompliance Responsibility and Reports. MNA then petitioned NHTSA under 49 CFR part 556 requesting a decision that the subject noncompliance is inconsequential to motor vehicle safety.

ADDRESSES: For further information on this decision contact Kerrin Bressant, Office of Vehicles Safety Compliance, the National Highway Traffic Safety Administration (NHTSA), telephone (202) 366-1110, facsimile (202) 366-3081.

SUPPLEMENTARY INFORMATION:

I. MNA's Petition: Pursuant to 49 U.S.C. 30118(d) and 30120(h) and the rule implementing those provisions at 49 CFR part 556, MNA submitted a petition for an exemption from the notification and remedy requirements of 49 U.S.C. Chapter 301 on the basis that this noncompliance is inconsequential to motor vehicle safety.

Notice of receipt of the petition was published, with a 30-day public comment period, on September 8, 2015 in the Federal Register (80 FR 53912). No comments were received. To view the petition and all supporting documents log onto the Federal Docket Management System (FDMS) Web site at: http://www.regulations.gov/. Then follow the online search instructions to locate docket number “NHTSA-2014-0034.”

II. Vehicles Involved: Affected are approximately 8,789 MY 2011-2013 Maserati Quattroporte and MY 2011-2014 Maserati Granturismo and Granturismo Convertible passenger vehicles.

III. Noncompliance: MNA explains that after the car's ignition is switched to the ON position, the Tire Pressure Monitoring System (TPMS) immediately seeks to confirm if all wheel sensors are present. When the TPMS first detects a sensor is missing, it illuminates the malfunction indicator as required by FMVSS No. 138. Upon subsequent ignition cycles, if the sensor detected as missing during the previous ignition cycle is still missing, the TPMS malfunction indicator will again illuminate as required and stay illuminated until the vehicle begins to move, at which time the indicator will extinguish. The extinguishment of the malfunction indicator while the malfunction still exists is in violation to paragraph S4.4(c)(2) of FMVSS No. 138. The malfunction indicator must illuminate when a malfunction is identified and remain illuminated as long as the condition exists.

IV. Rule Text: Paragraph S4.4(c)(2) of FMVSS No. 138 requires in pertinent part:

S4.4 TPMS Malfunction.

* * * * *

(c) Combination low tire pressure/TPMS malfunction telltale. The vehicle meets the requirements of S4.4(a) when equipped with a combined Low Tire Pressure/TPMS malfunction telltale that:

(2) Flashes for a period of at least 60 seconds but no longer than 90 seconds upon detection of any condition specified in S4.4(a) after the ignition locking system is activated to the “On” (“Run”) position. After each period of prescribed flashing, the telltale must remain continuously illuminated as long as a malfunction exists and the ignition locking system is in the “On” (“Run”) position. This flashing and illumination sequence must be repeated each time the ignition locking system is placed in the “On” (“Run”) position until the situation causing the malfunction has been corrected. . . .

V. Summary of MNA's Analyses: MNA stated its belief that the subject noncompliance is inconsequential to motor vehicle safety for the following reasons:

(A) MNA states that after the car's ignition is switched to the ON position, the TPMS immediately seeks to confirm if all wheel sensors are present. If the TPMS detects a sensor is not present, an internal timer is started. If the sensor detected as missing was also detected as missing during the previous ignition cycle, the TPMS malfunction indicator will illuminate as required to indicate a hardware fault is still present. If the engine is subsequently started again and left in its steady state (engine not cold) idle, the warning lamp will continue to remain illuminated as required. However, if the car is then driven, the warning lamp will extinguish. Once the vehicle has been moving above 22 mph for a period of 15 seconds, the TPMS will seek to confirm that all wheel sensors are fitted to the vehicle. If the internal timer reaches 160 seconds, and the vehicle has been moving above 22 mph for 15 seconds, the TPMS malfunction indicator will illuminate correctly. Once the malfunction indicator is illuminated, it remains so throughout that ignition cycle, regardless of the vehicle's speed.

(B) MNA explained that if the TPMS fails to detect the wheel sensors, the TPMS will display no value on the TPMS pressures screen for the tire pressure, indicating that the status of the wheel sensor is unconfirmed.

(C) MNA said that the noncompliance is confined to one particular aspect of the functionality of the otherwise compliant TPMS malfunction indicator. All other aspects of the low-pressure monitoring system functionality are fully compliant with the requirements of FMVSS No. 138. Also MNA stated that NHTSA had previously published a rule (April 8, 2005) that said a malfunction, in and of itself, does not represent a safety risk to vehicle occupants and that the chances of having a TPMS malfunction and a significantly under-inflated tire at the same time are unlikely.

(D) MNA said that NHTSA has previously granted petitions for inconsequential noncompliances related to the TPMS malfunction indicator not illuminating in the manner required by FMVSS No. 138 due to a software malfunction. MNA mentioned a grant to a petition submitted by Volkswagen Group of America, Inc. for Audi vehicles.¹ MNA explained that in the Volkswagen case, the TPMS would initially display the required warning, but the telltale light would not stay illuminated in the manner required by FMVSS No. 138 in that the warning light would be extinguished on subsequent drive cycles if the vehicle speed was maintained below 12.5 mph.

¹ 76 FR 30239 (May 24, 2011).

(E) MNA stated that it is not aware of any customer complaints, field communications, incidents or injuries related to this condition.

(F) MNA explained that it provides additional warnings through tire inflation and usage fitment information provided in the subject vehicles owner's manuals. In addition, customer calls into the Roadside Assistance and Customer Care department can also help provide specific wheel and tire fitment information to MNA customers. The Maserati Authorized Dealer network can also address this issue with Maserati customers.

In summation, MNA believes that the described noncompliance of the subject vehicles is inconsequential to motor vehicle safety, and that its petition, to exempt MNA from providing recall notification of noncompliance as required by 49 U.S.C. 30118 and remedying the recall noncompliance as required by 49 U.S.C. 30120 should be granted.

NHTSA'S Decision

NHTSA's Analysis: MNA explained that although the malfunction indicator extinguishes once the car starts moving, it will illuminate shortly thereafter—within 160 seconds of ignition start and after the vehicle speed exceeds 22 mph for 15 seconds.

NHTSA agrees with MNA that the malfunction indicator will not illuminate as required only during very short periods of time when the vehicle is traveling at low speeds and thus poses little risk to vehicle safety. Under normal driving conditions, a driver will begin a trip by accelerating moderately beyond 22 mph, and as explained by MNA, once the vehicle accelerates above 22 mph (combined with the Ignition-On internal clock reaching 160 seconds), the malfunction indicator re-illuminates and then it will remain illuminated for the entire ignition cycle, regardless of vehicle speed. The telltale fails to re-illuminate only in the very rare case when the driver begins a trip and never exceeds the 22 mph threshold, the speed required to re-activate the malfunction indicator. No real safety risk exists because at such low speeds there is little risk of vehicle loss of control due to underinflated tires. Furthermore, the possibility that the vehicle will experience both a low inflation pressure condition and a malfunction simultaneously is highly unlikely.

MNA stated that if the TPMS fails to detect the wheel sensors, the TPMS will display no value on the vehicle's central digital cluster for the associated tire pressure, indicating that the status of the wheel sensor is unconfirmed for a given wheel.

The agency evaluated the displays MNA uses in the noncompliant vehicles. In addition to the combination low inflation pressure and malfunction telltale indicator lamp, the subject vehicles are equipped with a “plan view” icon which displays the pressures for all four wheels individually. If any wheel has a malfunctioning pressure sensor the indicator for that wheel displays several dashes “—” indicating the there is a problem with that respective wheel. The additional information is not required by the safety standard, but can be used as an aid to the driver to determine the status of a vehicle's tires.

MNA discussed that the noncompliance only involves one specific aspect of the malfunction functionality and that the primary function of the TPMS, identification of other malfunctions and identification of low inflation pressure scenarios, is not affected.

The agency agrees with MNA's reasoning that the primary function of the TPMS is to identify low inflation pressure conditions which MNA's system does as required by FMVSS No. 138.

There are also a variety of other malfunctions that can occur in addition to the delayed re-illumination malfunction identified in this petition. NHTSA understands from MNA that its TPMS will perform as required during all other type system malfunctions.

MNA additionally mentioned that NHTSA had previously granted petitions for inconsequential noncompliances pertaining to FMVSS No. 138 and specifically mentioned Volkswagen's (VW) Audi petition.² In the case of that petition, the Audi vehicle's TPMS would initially display the required warning, but the telltale would not stay illuminated in the manner required by FMVSS No. 138. The telltale light would extinguish on subsequent drive cycles if the vehicle speed was maintained below 12.5 mph. The MNA condition is similar to the VW condition because the malfunction telltales in both cases illuminate upon subsequent ignition cycles, but then extinguish at low speeds after the vehicles begin to move. Both conditions happen at relatively low speeds and for short durations of time. The VW petition was granted due to the fact that the noncompliance took place at relatively low speeds and for a short duration of time.

² 76 FR 30239 (May 24, 2011).

MNA added that it also provides several warnings via the owner's manual text with regards to the TPMS and its proper usage. Specifically, tire inflation and usage fitment information is provided. A Roadside Assistance and a Customer Care department are additionally mentioned as resources for an owner with issues or concerns about proper tire inflation and/or tire usage fitment. The additional information provided inside the owner's manual, and via telephone for Roadside Assistance and the Customer Care Department offers the MNA owner ample opportunity to ensure their vehicle operates as designed.

MNA also stated that they have not received or are aware of any consumer complaints, field communications, incidences or injuries related to this noncompliance.

In addition to the analysis done by MNA that looked at customer complaints, field communications, incidents or injuries related to this condition, NHTSA also conducted checks of NHTSA's Office of Defects Investigations consumer complaint database and found no related complaints.

NHTSA's Decision: In consideration of the foregoing analysis, NHTSA has decided that MNA has met its burden of demonstrating that the FMVSS No. 138 noncompliance is inconsequential to motor vehicle safety. Accordingly, MNA's petition is hereby granted and MNA is exempted from the obligation of providing notification of, and a free remedy for, the subject noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that MNA no longer controlled at the time it determined that the noncompliance existed. However, any decision on this petition does not relieve vehicle distributors and dealers of the prohibitions on the sale, offer for sale, or introduction or delivery for introduction into interstate commerce of the noncompliant vehicles under their control after MNA notified them that the subject noncompliance existed.

Authority: (49 U.S.C. 30118, 30120: delegations of authority at 49 CFR 1.95 and 501.8)

Jeffrey M. Giuseppe,
Director, Office of Vehicle Safety Compliance.

[FR Doc. 2016-00448 Filed 1-12-16; 8:45 am]

BILLING CODE 4910-59-P